TENNESSEE VALLEY AUTHORITY

Sunshine Act Meetings

TIME AND DATE: 9 a.m. ET on May 11, 2022.

PLACE: Charles Suber Banquet Hall, Young Harris College, 1 College Street, Young Harris, Georgia.

STATUS: Open.

MATTERS TO BE CONSIDERED:

Meeting No. 22-02

The TVA Board of Directors will hold a public meeting on May 11, 2022, in the Charles Suber Banquet Hall at the Rollins Campus Center on the campus of Young Harris College, 1 College Street, Young Harris, Georgia. The meeting will be called to order at 9 a.m. ET to consider the agenda items listed below. TVA management will answer questions from the news media following the Board meeting.

On May 10, in the Charles Suber Banquet Hall at the Rollins Campus Center, the public may comment on any agenda item or subject at a board-hosted public listening session which begins at 2 p.m. ET and will last until 4 p.m. Preregistration is required to address the Board.

Agenda

1. Approval of minutes of the February 10, 2022 Board Meeting

2. Report of the Audit, Finance, Risk, and Cybersecurity Committee

3. Report of the Operations and Nuclear Oversight Committee

4. Report of the External Stakeholders and Regulation Committee

A. Industrial Power Supply Arrangement

5. Report of the People and Governance Committee

A. Board Code of Conduct

B. Annual Compensation Plan Review Amendment

C. Corporate Goals

6. Information Items

A. Arrangements with a new industrial customer

B. Creation of a new non-firm transmission service

7. Report from President and CEO

CONTACT PERSON FOR MORE INFORMATION: For more information: Please call Jim Hopson, TVA Media Relations at (865) 632-6000, Knoxville, Tennessee. Anyone who wishes to comment on any of the agenda in writing may send their comments to: TVA Board of Directors, Board Agenda Comments, 400 West Summit Hill Drive, Knoxville, Tennessee 37902.

Dated: May 4, 2022.
Edward C. Meade,
Agency Liaison.

[FR Doc. 2022-10002 Filed 5-5-22; 11:15 am]

BILLING CODE 8120-08-P